DEPARTMENT OF THE INTERIOR

National Park Service

[NPS-WASO-NRNHL-DTS#-27136; PPWOCRADI0, PCU00RP14.R50000]

National Register of Historic Places; Notification of Pending Nominations and Related Actions

AGENCY: National Park Service, Interior.

ACTION: Notice.

SUMMARY: The National Park Service is soliciting comments on the significance of properties nominated before December 8, 2018, for listing or related actions in the National Register of Historic Places.

DATES: Comments should be submitted by January 14, 2019.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before December 8, 2018. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

COLORADO

Larimer County

Patterson House, 121 N. Grant Ave., Fort Collins, SG100003319

NEW JERSEY

Camden County

McGuire, Peter J., Memorial and Gravesite, Arlington Cemetery, 1620 Cove Rd., Pennsauken Township, SG100003321

PENNSYLVANIA

Philadelphia County

William Brown Company Hosiery Mill, 3400-3412 J St., Philadelphia, SG100003320

SOUTH CAROLINA

Orangeburg County

McCoy Farmstead, 307 Boyer Rd., Holly Hill vicinity, SG100003315

Richland County

Evans, Dr. Matilda A., House, 2027 Taylor St., Columbia, SG100003317

VIRGINIA

Carroll County

Woodlawn School, 745 Woodlawn Rd., Woodlawn, SG100003322

Additional documentation has been received for the following resource:

SOUTH CAROLINA

Orangeburg County

Orangeburg Downtown Historic District (Orangeburg MRA). Along sections of Russell, Broughton, Middleton, Church, Meeting, St. John, Hampton & Amelia Sts. around the public square. Orangeburg, AD85002317

Authority: Section 60.13 of 36 CFR part 60.

Dated: December 10, 2018.
Christopher Hetzel,
Acting Chief, National Register of Historic Places/National Historic Landmarks Program.

[FR Doc. 2018-28236 Filed 12-27-18; 8:45 am]

BILLING CODE 4312-52-P